DEPARTMENT OF COMMERCE

Bureau of the Census

[Docket Number 140626541-4541-01]

Establishment of the 2020 Census Redistricting Data Program

AGENCY: Bureau of the Census, Department of Commerce

ACTION: Notice of Program.

SUMMARY: This notice announces and seeks comments on the establishment of the 2020 Census Redistricting Data Program. Required by law, the program provides states the opportunity to specify the small geographic areas for which they wish to receive 2020 decennial population totals for the purpose of reapportionment and redistricting.

DATES: Comments on this notice are due by September 5, 2014. The deadline for states to notify the Bureau of the Census (Census Bureau) that they wish to participate in Phase 1, the Block Boundary Suggestion Project, is August 1, 2015.

ADDRESSES: Please direct all written comments on this notice to the Director, U.S. Census Bureau, 4600 Silver Hill Road, Room 8H-002, Washington DC 20233.

FOR FURTHER INFORMATION CONTACT: Catherine C. McCully, Chief, Census Redistricting Data Office, U.S. Census Bureau, Room 8H-019, Washington DC 20233, telephone (301) 763-4039.

SUPPLEMENTARY INFORMATION: Under the provisions of Title 13, Section 141(c) of the United States Code (U.S.C.), the Secretary of Commerce (Secretary) is required to provide the “officers or public bodies having initial responsibility for the legislative apportionment or districting of each state . . .” with the opportunity to specify geographic areas (e.g., voting districts) for which they wish to receive decennial census population counts for the purpose of reapportionment or redistricting.

By April 1 of the year following the decennial census, the Secretary is required to furnish the state officials or their designees with population counts for American Indian areas, counties, cities, census blocks, and state-specified congressional, legislative districts, and voting districts.

In accordance with the provisions of 13 U.S.C. 141(c), the Director of the Census Bureau, on behalf of the Secretary of Commerce, announces the establishment of the 2020 Census Redistricting Data Program. The Census Bureau will issue an invitation to the officers or public bodies having initial responsibility for legislative reapportionment and redistricting this fall through the Census Redistricting Data Office inviting states to identify a non-partisan liaison that will work directly with the Census Bureau on the 2020 Census Redistricting Data Program. Once these liaisons are established, the Census Bureau will coordinate communications involving the commencement of the program.

Since the 1990 Census, participation in both the Census Redistricting Data Program's Block Boundary Suggestion Project and Voting District Project (2020 Redistricting Data Program Phases 1 and 2) under 13 U.S.C. is voluntary on the part of each state. However, if states choose not to participate in Phase 1 and Phase 2, the Census Bureau cannot ensure that the decennial census 2020 tabulation geography will support the redistricting needs of their state.

Phase 1: Block Boundary Suggestion Project (BBSP)

Beginning in the late summer of 2014, the Census Bureau will correspond with the legislative leadership and executive officer of each state to establish a 2020 Census Redistricting Data Program liaison. The Census Bureau will formally announce through a subsequent Federal Register Notice the commencement of Phase 1, the Block Boundary Suggestion Project (BBSP). The purpose of the BBSP is to afford states the opportunity to identify non-standard features often used as electoral boundaries (such as a powerline or stream, rather than a street centerline which might divide voters into two districts) as census block boundaries. The BBSP option affords the state liaison the opportunity to provide suggestions for 2020 census tabulation block boundaries resulting in more meaningful block data for the state. Liaisons are able to work with local officials including county election officers and others to ensure local geography is represented in the 2020 tabulation block inventory. In addition, the liaison, on behalf of the state, will make suggestions for features not desirable as census tabulation blocks. By identifying undesirable features, the liaison may assist the Bureau in reducing the overall number of census tabulation blocks from the 2010 inventory. Beginning in late fall of 2015, states that choose to participate in Phase 1 will begin receiving guidelines and training for providing their suggestions for the 2020 census tabulation blocks as well as their suggestions for exclusion of line segments for consideration in the final 2020 census tabulation block inventory. For the first time, states will have the opportunity to review legal limits, such as incorporated places, American Indian areas and county boundaries, as reported through the Boundary and Annexation Survey (BAS). The alignment of the BAS with the BBSP will facilitate the cooperation between state and local government. A verification phase will occur in early 2017.

Phase 2: Voting District Project (VTDP)

The Census Bureau will formally announce through a subsequent Federal Register Notice the commencement of Phase 2, the Voting District Project. The VTDP will provide the state liaison, on behalf of the state, to submit the voting districts (a generic term used to represent areas that administer elections such as precincts, election districts, wards, etc.) to the Census Bureau for representation in the 2020 Census P.L. 94-171 products (data and geographic products). Beginning in late 2017, states that choose to participate in Phase 2, the Voting District Project will receive on a flow basis, geographic products that afford them the opportunity to update the Voting Districts (VTDs) for inclusion in the 2020 Census tabulation geography. State liaisons will continue to align their effort with updates from state and local government officials participating in the BAS. The VTD/BAS update and alignment will continue through spring of 2018. A verification phase will occur in early 2019 for states that participated in Phase 2.

Phase 3: Delivery of the Decennial Census 2020 Redistricting Data

By April 1, 2021, the Director of the Census Bureau will, in accordance with 13 U.S.C. 141(c), furnish the Governor and state legislative leaders, both the majority and minority, with 2020 Census population counts for standard census tabulation areas (e.g., state, Congressional district, state legislative district, American Indian area, county, city, town, census tract, census block group, and census block) regardless of a state's participation in Phase 1 or 2. The Director of the Census Bureau will provide 2020 population counts for those states participating in Phase 2, for both the standard tabulation areas and for voting districts. For each state, this delivery will occur prior to general release and no later than April 1, 2021.

Phase 4: Collection of Post-Census 2010 Redistricting Data Plans

Beginning in 2021, the Census Bureau will solicit from each state the newly drawn legislative and Congressional district plans and prepares appropriate data sets based on the new districts. This effort will occur every two years in advance of the 2030 Census in order to update these boundaries with new or changed plans. A verification phase will occur with each update.

Phase 5: Review of the 2020 Census Redistricting Data Program and Recommendations for the 2030 Redistricting Data Program

As the final phase of the 2020 Census Redistricting Data Program, the Census Bureau will work with the states to conduct a thorough review of the program. The intent of this review, and the final report that results, is to provide guidance to the Secretary of Commerce and the Census Bureau Director in planning the 2030 Census Redistricting Data Program.

Please address questions concerning any aspect of the 2020 Census Redistricting Data Program to the person identified in the contact section of this notice.

Dated: July 9, 2014.
John H. Thompson,
Director, Bureau of the Census.

[FR Doc. 2014-16532 Filed 7-14-14; 8:45 am]

BILLING CODE 3510-07-P